ENVIRONMENTAL PROTECTION AGENCY

40 CFR Part 370

[EPA-HQ-SFUND-2010-0763; FRL 9949-05-OLEM]

RIN 2050-AG85

Hazardous Chemical Reporting: Community Right-to-Know; Revisions to Hazard Categories and Minor Corrections; Correction

AGENCY: Environmental Protection Agency (EPA).

ACTION: Final rule; technical amendment, correction.

SUMMARY: The Environmental Protection Agency (EPA or the Agency) issued a final rule in the Federal Register on June 13, 2016 (81 FR 38104) amending its hazardous chemical reporting regulations. That document inadvertently omitted the hazard “serious eye damage or eye irritation” in § 370.66 under the definition of “health hazard”. This action corrects that definition.

DATES: Effective Date: This final rule is effective July 21, 2016.

Compliance Date: The compliance date is January 1, 2018.

ADDRESSES: The EPA has established a docket for this action under Docket ID No. EPA-HQ-SFUND-2010-0763. All documents in the docket are listed on the http://www.regulations.gov Web site. Although listed in the index, some information is not publicly available, e.g., CBI or other information whose disclosure is restricted by statute. Certain other material, such as copyrighted material, is not placed on the Internet and will be publicly available only in hard copy form. Publicly available docket materials are available electronically through http://www.regulations.gov.

FOR FURTHER INFORMATION CONTACT: Sicy Jacob, Office of Emergency Management, Mail Code 5104A, Environmental Protection Agency, 1200 Pennsylvania Avenue NW., Washington DC 20004; telephone number: (202) 564-8019; email address: jacob.sicy@epa.gov.

SUPPLEMENTARY INFORMATION: EPA issued a final rule in the Federal Register of June 13, 2016 (81 FR 38104) amending its hazardous chemical regulations due to the changes in the Occupational Safety and Health Administration (OSHA) Hazard Communication Standard (HCS). The final rule inadvertently omitted the hazard “serious eye damage or eye irritation” in § 370.66 under the definition of “health hazard”. This action is being issued to correct the omitted hazard in 40 CFR 370.66, which contains the definitions of the key words used in 40 CFR part 370. Specifically, under the definition of “hazard category,” EPA inadvertently omitted the hazard, “serious eye damage or eye irritation” under the definition of “health hazard.” This document corrects this error by adding the hazard, “serious eye damage or eye irritation” in 40 CFR 370.66 under the definition of “health hazard.”

List of Subjects in 40 CFR Part 370

Environmental protection, Extremely hazardous substances, GHS, Hazard categories, Hazard class, Hazardous chemicals, OSHA HCS, Tier II Inventory Form.

Dated: July 12, 2016.
Mathy Stanislaus,
Assistant Administrator, Office of Land and Emergency Management.

For the reasons stated in the preamble, title 40, chapter I of the Code of Federal Regulations is corrected as follows:

PART 370—HAZARDOUS CHEMICAL REPORTING: COMMUNITY RIGHT-TO-KNOW

1. The authority citation for part 370 continues to read as follows:

Authority: Sections 302, 311, 312, 322, 324, 325, 327, 328, and 329 of the Emergency Planning and Community Right-To-Know Act of 1986 (EPCRA) (Pub. L. 99-499, 100 Stat. 1613, 42 U.S.C. 11002, 11021, 11022, 11042, 11044, 11045, 11047, 11048, and 11049).

2. Amend § 370.66 by revising the definition of the term “Hazard category” to read as follows:

§ 370.66 How are key words in this part defined?

* * * * *

Hazard category is divided into two categories, health and physical hazards.

(1) Health hazard means a chemical which poses one of the following hazardous effects: Carcinogenicity; acute toxicity (any route of exposure); aspiration hazard; reproductive toxicity; germ cell mutagenicity; skin corrosion or irritation; respiratory or skin sensitization; serious eye damage or eye irritation; specific target organ toxicity (single or repeated exposure); simple asphyxiant; and hazard not otherwise classified (HNOC).

(2) Physical hazard means a chemical which poses one of the following hazardous effects: Flammable (gases, aerosols, liquids or solids); gas under pressure; explosive; self-heating; pyrophoric (liquid or solid); pyrophoric gas; oxidizer (liquid, solid or gas); organic peroxide; self-reactive; in contact with water emits flammable gas; combustible dust; corrosive to metal; and hazard not otherwise classified (HNOC).

* * * * *

[FR Doc. 2016-17277 Filed 7-20-16; 8:45 am]

BILLING CODE 6560-50-P